ARCHITECTURAL AND TRANSPORTATION BARRIERS COMPLIANCE BOARD

Performance Review Board Membership

AGENCY: Architectural and Transportation Barriers Compliance Board.

ACTION: Notice.

SUMMARY: Notice is given of the appointment of members to a performance review board for the Architectural and Transportation Barriers Compliance Board (Access Board).

FOR FURTHER INFORMATION CONTACT: David M. Capozzi, Executive Director, Access Board, 1331 F Street NW, Suite 1000, Washington, DC 20004-1111. Telephone (202) 272-0010.

SUPPLEMENTARY INFORMATION: Section 4314 (c) of Title 5, U.S.C., requires each agency to establish, in accordance with regulations, one or more Senior Executive Service (SES) performance review boards. The function of the boards is to review and evaluate the initial appraisal of senior executives' performance and make recommendations to the appointing authority relative to the performance of these executives. Because of its small size, the Access Board has appointed SES career members from other federal agencies to serve on its performance review board. The members of the performance review board for the Access Board are:

• Craig Luigart, Chief Information Officer, Veterans Health Administration, Department of Veterans Affairs;

• Rebecca Bond, Chief, Disability Rights Section, Department of Justice;

• David Insinga, Chief Architect, Public Buildings Service, General Services Administration.

David M. Capozzi,
Executive Director.

[FR Doc. 2019-21245 Filed 9-30-19; 8:45 am]

BILLING CODE 8150-01-P